DEPARTMENT OF COMMERCE

National Institute of Standards and Technology

Announcement of Telecommunication Certification Body Training Workshop

AGENCY: National Institute of Standards and Technology, Department of Commerce.

ACTION: Notice of workshop.

SUMMARY: The National Institute of Standards and Technology (NIST) invites interested parties to attend a three-day Telecommunication Certification Body (TCB) training workshop on Federal Communications Commission (FCC) Rules, the FCC's TCB Program and related issues. The FCC has asked NIST to help assure the technical competence of TCBS. FCC, NIST, and industry personnel will conduct this workshop. The workshop, co-sponsored by NIST, will help NIST fulfill its responsibilities and will aid TCBs by providing information and training to current and potential TCBs, assessors, interested testing laboratories, and equipment manufacturers on compliance with FCC requirements. There is a fee to attend the Workshop. All attendees must register no later than June 29, 2001. Attendance will be limited to the first 75 registered participants.

DATES: The TCB Training Workshop will be held July 10-12, 2001. All sessions will be held from 9 am to 5 pm.

ADDRESSES: TCB Training Workshop sessions will be held at the Gaithersburg Holiday Inn, 2 Montgomery Village Avenue, Gaithersburg, Maryland 20878 (Montgomery Village Avenue Exit, Route 124 East off Interstate I-270).

For Registration Information Contact:

Teresa Vicente at (301) 975-3883, teresa.vicente@nist.gov. You may register for the workshop electronically at http://www.nist.gov/conferences. If you do not wish to register electronically, you can print out the electronic form and fax it to (301) 948-2067. Please pre-register by no later than June 29, 2001. You may also mail a copy of the electronic form, by June 29, 2001, to: NIST Office of the Comptroller, 100 Bureau Drive, Stop 3732, Gaithersburg, MD 20899-3732.

For Technical Information Contact:

Jogindar Dhillon at 301-975-5521, dhillon@nist.gov.

SUPPLEMENTARY INFORMATION: The FCC, in its Report & Order 98-338 (Gen Docket No. 98-68) asked NIST to help assure the technical competence of TCBs. The workshop, co-sponsored by NIST, is aimed at providing information and training to current and potential TCBs, assessors, interested testing laboratories, and equipment manufacturers on compliance with FCC requirements. The first two days will be devoted to a TCB Tutorial for FCC requirements, which will include an overview of FCC Equipment Authorization Program, the TCB Program, electronic filing, unlicensed and licensed transmitters, telephone terminal equipment and Mutual Recognition Agreements/Arrangements. The tutorial will be followed by one-day session focusing on issues relating to market surveillance and RF exposure, TCB audits, common problems encountered by TCBs, and experiences in implementing the TCB program. There is a $390 fee to attend the Workshop. For those who are only interested in attending the session on the third day, July 12, the fee will be $250. All attendees must register no later than June 29, 2001. Attendance will be limited to the first 75 registered participants.

Workshop attendees are assumed to have basic familiarity with the FCC Rules, Parts 2, 15, 18, and 68. The text of the FCC Rules can be accessed at http://www.fcc.gov/oet/info/rules/. Information about the TCB program is posted on NIST web site at http://ts.nist.gov/ts/htdocs/210/216/tcb-program.htm.

Dated: June 1, 2001.
Karen H. Brown,
Acting Director.

[FR Doc. 01-14443 Filed 6-7-01; 8:45 am]

BILLING CODE 3510-13-M